COMMODITY FUTURES TRADING COMMISSION

Sunshine Act Meetings

Federal Register CITATION OF PREVIOUS ANNOUNCEMENT: 88 FR 15991, March 15, 2023.

PREVIOUSLY ANNOUNCED TIME AND DATE OF THE MEETING: 1:00 p.m. EDT, Tuesday, March 21, 2023.

CHANGES IN THE MEETING: The time of the meeting has changed. This meeting will now start at 12:30 p.m. EDT. The meeting date, place, Closed status, and matters to be considered, as previously announced, remain unchanged.

CONTACT PERSON FOR MORE INFORMATION: Christopher Kirkpatrick, 202-418-5964.

Authority: 5 U.S.C. 552b.

Dated: March 15, 2023.
Christopher Kirkpatrick,
Secretary of the Commission.

[FR Doc. 2023-05616 Filed 3-15-23; 4:15 pm]

BILLING CODE 6351-01-P